DEPARTMENT OF THE INTERIOR

Bureau of Land Management

[CA-169-1220-PG]

Notice of Public Meeting, Carrizo Plain National Monument Advisory Committee

SUMMARY: In accordance with Federal Land Policy and Management Act (FLPMA) and the Federal Advisory Committee Act of 1972 (FACA), the United States Department of Interior, Bureau of Land Management (BLM), Carrizo Plain National Monument Advisory Committee will meet as indicated below:

DATES: The meeting will be held on Saturday, May 22, 2004, at the Washburn Ranch Administrative Site on the Carrizo Plain National Monument. The Site is located on Soda Lake Road, approximately 20 miles south of the intersection of Soda Lake Road and Highway 58 in eastern San Luis Obispo County and there is a sign designating the location. The meeting will begin at 10 a.m. and finish at 5 p.m. There will be a public comment period from 3-4 p.m.

FOR FURTHER INFORMATION CONTACT: Bureau of Land Management, Attention: Marlene Braun, Monument Manager, 3801 Pegasus Drive, Bakersfield, CA 93308. Phone at (661) 391-6119 or email at: mbraun@ca.blm.gov.

SUPPLEMENTARY INFORMATION: The nine-member Carrizo Plain National Monument Advisory Committee advises the Secretary of the Interior, through the Bureau of Land Management, on a variety of public land issues associated with the public land issues associated with public land management in the Carrizo Plain National Monument in Central California. At this meeting, Monument staff will present updated information on the progress on the new Carrizo Plain National Monument Resource Management Plan, introduce the new BLM Bakersfield Office Field Manager, Ron Huntsinger, and discuss other coordination opportunities. This meeting is open to the public, who may present written or verbal comments. Depending on the number of persons wishing to comment, and the time available, the time allotted for individual oral comments may be limited. Individuals who plan to attend and need special assistance such as sign language interpretation or other reasonable accommodations should contact BLM as indicated below.

Dated: April 29, 2004.
Ron Huntsinger,
Acting Manager, Carrizo Plain National Monument.

[FR Doc. 04-10177 Filed 4-30-04; 2:25 pm]

BILLING CODE 4310-40-P